INTERNATIONAL TRADE COMMISSION

[Investigation No. 701-TA-530 (Final)]

Supercalendered Paper From Canada; Determination

On the basis of the record ¹ developed in the subject investigation, the United States International Trade Commission (“Commission”) determines, pursuant to the Tariff Act of 1930 (“the Act”), that an industry in the United States is materially injured by reason of imports of supercalendered paper from Canada, provided for in subheading 4802.61.30 of the Harmonized Tariff Schedule of the United States, that have been found by the Department of Commerce (“Commerce”) to be subsidized by the government of Canada.²

¹ The record is defined in sec. 207.2(f) of the Commission's Rules of Practice and Procedure (19 CFR 207.2(f)).

² Commissioner F. Scott Kieff did not participate in this investigation.

Background

The Commission, pursuant to section 705(b) of the Tariff Act of 1930 (19 U.S.C. 1671d(b)), instituted this investigation effective February 26, 2015, following receipt of a petition filed with the Commission and Commerce by the Coalition for Fair Paper Imports, which is an ad hoc association of U.S. producers that includes Madison Paper Industries, Inc., Madison, ME and Verso Corp., Memphis, TN. The final phase of the investigation was scheduled by the Commission following notification of a preliminary determination by Commerce that imports of supercalendered paper from Canada were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of August 24, 2015 (80 FR 51309). The hearing was held in Washington, DC, on October 22, 2015, and all persons who requested the opportunity were permitted to appear in person or by counsel.

The Commission made this determination pursuant to section 705(b) of the Tariff Act of 1930 (19 U.S.C. 1671d(b)). It completed and filed its determination in this investigation on December 3, 2015. The views of the Commission are contained in USITC Publication 4583 (December 2015), entitled Supercalendered Paper from Canada: Investigation No. 701-TA-530 (Final).

By order of the Commission.
Issued: December 3, 2015.
Lisa R. Barton,
Secretary to the Commission.

[FR Doc. 2015-30953 Filed 12-8-15; 8:45 am]

BILLING CODE 7020-02-P